SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: June 1-30, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued

1. Samson Exploration, LLC, Pad ID: Pardee & Curtin Lumber Co. C-04, ABR-20090901.R1, Shippen Township, Cameron County, Pa.; Rescind Date: June 26, 2018.

2. Samson Exploration, LLC, Pad ID: Pardee & Curtin Lumber Co. C-05, ABR-20100116.R1, Shippen Township, Cameron County, Pa.; Rescind Date: June 26, 2018.

3. Samson Exploration, LLC, Pad ID: Pardee & Curtin Lumber Co. C-07H, ABR-20100117.R1, Lumber Township, Cameron County, Pa.; Rescind Date: June 26, 2018.

4. Samson Exploration, LLC, Pad ID: Pardee & Curtin Lumber Co. C-09H, ABR-20091103.R1, Shippen Township, Cameron County, Pa.; Rescind Date: June 26, 2018.

5. Samson Exploration, LLC, Pad ID: Pardee & Curtin Lumber Co. C-12H, ABR-201011062.R1, Shippen Township, Cameron County, Pa.; Rescind Date: June 26, 2018.

6. Samson Exploration, LLC, Pad ID: Pardee & Curtin Lumber Co. C-17H, ABR-201108016.R1, Shippen Township, Cameron County, Pa.; Rescind Date: June 26, 2018.

7. SWEPI, LP, Pad ID: Benson 130D, ABR-20091012.R1, Richmond Township, Tioga County, Pa.; Rescind Date: June 27, 2018.

8. SWEPI, LP, Pad ID: Brumwell 657 revised, ABR-201401003, Richmond Township, Tioga County, Pa.; Rescind Date: June 27, 2018.

9. SWEPI, LP, Pad ID: Owlett 843R, ABR-201204007.R1, Middlebury Township, Tioga County, Pa.; Rescind Date: June 27, 2018.

10. SWN Production Company, LLC, Pad ID: Belcher, ABR-201011015.R1, Clifford Township, Susquehanna County, Pa.; Rescind Date: June 28, 2018.

11. SWN Production Company, LLC, Pad ID: CSB, ABR-201108013.R1, Cherry Township, Sullivan County, Pa.; Rescind Date: June 28, 2018.

12. SWN Production Company, LLC, Pad ID: McNamara Well Pad, ABR-201203011.R1, Silver Lake Township, Susquehanna County, Pa.; Rescind Date: June 28, 2018.

13. SWN Production Company, LLC, Pad ID: Shively Pad, ABR-201108011.R1, Lenox Township, Susquehanna County, Pa.; Rescind Date: June 28, 2018.

14. SWN Production Company, LLC, Pad ID: Stang Well No. 1, ABR-20090941.R1, Rush Township, Susquehanna County, Pa.; Rescind Date: June 28, 2018.

15. SWN Production Company, LLC, Pad ID: Tall Maples, ABR-201010056.R1, Elkland Township, Sullivan County, Pa.; Rescind Date: June 28, 2018.

Authority: Pub. L. 91-575, 84 Stat. 1509 et seq., 18 CFR parts 806, 807, and 808.

Dated: August 7, 2018.
Stephanie L. Richardson,
Secretary to the Commission.

[FR Doc. 2018-17240 Filed 8-10-18; 8:45 am]

BILLING CODE 7040-01-P